DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Whitewater Valley Railroad

Waiver Petition Docket Number FRA-2010-0148

The Whitewater Valley Railroad (WVRR) seeks a waiver of compliance from certain provisions of the Railroad Freight Car Safety Standards, i.e. §§ 215.303 and 215.305, which require stenciling of restricted cars; as well as that of the Reflectorization of Rail Freight Rolling Stock, i.e. §§ 224.3 and 224.5, which require applying reflectors on freight cars and locomotives.

WVRR owns 13 freight cars that are older than 50 years from their date of original construction, and are restricted by the provision of 49 CFR 215.203(a). WVRR is concurrently seeking special approval to continue to use these cars under proceeding according to 49 CFR 215.203(b).

To support its petition to seek relief from the stenciling and reflectorization requirements, WVRR states that it is a 501(c)(3) non-profit organization. It is an operating railroad museum dedicated to the operation of a historic branch line railroad, to the restoration of railroad equipment, and to the conduct of educational railroad programs. The railroad owns and operates 19 miles of track between Metamora and Connersville, Indiana. These tracks are not part of the general railway system. Operating speeds on the line would never be authorized at more than 25 miles per hour.

WVRR states that to support its mission, it operates antiquated freight and passenger cars built prior to 1945, as well as a group of freight cars and locomotives built after 1945, in public excursion service as operating historic artifacts. On rare occasions, locomotives and freight cars (including flat, box and hopper cars) are used to demonstrate typical freight trains of the 1940s-60s. These operations are sometimes chartered programs designed for photographers, film production, and for railroad historians. Revenue from these activities is used to further restore/maintain these cars for public display. On occasion, these locomotives and cars are also used in the maintenance of the organization's track. As one of the key purposes of the organization is to maintain the historic appearances of its cars and locomotives, compliance with the reflectorization of railroad freight rolling stock would greatly affect the historic appearance of this equipment. Stenciling requirements would also impact the appearance of those cars used periodically in maintenance of way service.

WVRR further states that it believes that a number of factors limit the impact on the public on its museum line. Main road crossings are signaled, primarily in the City of Connersville, Town of Laurel and at US Route 52 in Metamora, Indiana. Other grade crossings are on low volume paved and gravel roads with reflectorized grade crossing signs and posts to draw attention to these crossings. Freight car trains seldom run at night or during periods of poor visibility and are of limited length, generally fewer than 10 cars with the locomotive still visible at most of its grade crossings.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0148) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on February 16, 2011.
Robert C. Lauby,
Deputy Associate Administrator for Regulatory and Legislative Operations.

[FR Doc. 2011-4024 Filed 2-22-11; 8:45 am]

BILLING CODE 4910-06-P